DEPARTMENT OF LABOR

Employee Benefits Security Administration Advisory Council on Employee Welfare and Pension Benefit Plans Working Group on Plan Asset Rules, Exemptions and Cross Trading, Working Group on a Procedurally Prudent Investment Process, and Working Group on Health Information Technology; Notice of Meeting

Pursuant to the authority contained in Section 512 of the Employee Retirement Income Security Act of 1974 (ERISA), 29 U.S.C. 1142, the Working Groups assigned by the Advisory Council on Employee Welfare and Pension Benefit Plans to study the issues of (1) Plan asset rules, exemptions and cross trading, (2) a procedurally prudent investment process, and (3) health information technology, will hold public teleconference meetings on October 20, 2006.

The sessions will take place in Room N4437-A, U.S. Department of Labor, 200 Constitution Avenue, NW., Washington, DC 20210. The purpose of the open meetings is for each Working Group to discuss its report/recommendations for the Secretary of Labor. The meetings will run from 11 a.m. to approximately 5 p.m., starting with the Working Group on Plan Asset Rules, Exemptions and Cross Trading, followed by the Working Group on a Procedurally Prudent Investment Process, followed by the Working Group on Health Information Technology.

Organizations or members of the public wishing to submit a written statement pertaining to the topic may do so by submitting 25 copies on or before October 13, 2006 to Larry Good, Executive Secretary, ERISA Advisory Council, U.S. Department of Labor, Suite N-5623, 200 Constitution Avenue, NW., Washington, DC 20210. Statements also may be submitted electronically to good.larry@dol.gov. Statements received on or before October 13, 2006 will be included in the record of the meeting. Individuals or representatives of organizations wishing to address the Working Group should forward their requests to the Executive Secretary or telephone (202) 693-8668. Oral presentations will be limited to 10 minutes, time permitting, but an extended statement may be submitted for the record. Individuals with disabilities who need special accommodations should contact Larry Good by October 13 at the address indicated.

Signed at Washington, DC, this 27th day of September, 2006.
Ann L. Combs,
Assistant Secretary, Employee Benefits Security Administration.

[FR Doc. E6-16381 Filed 10-3-06; 8:45 am]

BILLING CODE 4510-29-P